DEPARTMENT OF ENERGY

Federal Energy Regulatory Commission

[Project No. 2246-065]

Yuba County Water Agency; Notice Soliciting Comments on Final Technical Memoranda

On March 31, 2016, Yuba County Water Agency, licensee for the Yuba River Project, filed Technical Memoranda 7-11 and 7-11a, Fish Behavior and Hydraulics near Narrows 2 Powerhouse and Radio Telemetry of Spring- and Fall-Run Chinook Migratory Behavior Downstream of Narrows 2 Powerhouse.¹ The memoranda were required by studies approved by the Commission on September 30, 2011 (modified on December 28, 2011; April 12, 2012; and March 29, 2013) (Study 11) and August 22, 2013 (Study 11a).

¹ These technical memoranda can be viewed at http://elibrary.ferc.gov/idmws/common/OpenNat.asp?fileID=14186240.

The Commission is soliciting comments on these memoranda. Any comments should be filed within 30 days from the date of this notice. The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE., Washington, DC 20426. The first page of any filing should include docket number P-2246-065.

Once the Commission has determined that it has sufficient information to process the license application, it will issue a notice that the application is ready for environmental analysis, requesting comments, recommendations, terms and conditions, or prescriptions.

For further information, contact Alan Mitchnick at (202) 502-6074.

Dated: April 6, 2016.
Kimberly D. Bose,
Secretary.

[FR Doc. 2016-08857 Filed 4-15-16; 8:45 am]

BILLING CODE 6717-01-P